DEPARTMENT OF TRANSPORTATION

Federal Aviation Administration

14 CFR Part 71

[Docket No. FAA-2010-0651; Airspace Docket No. 10-ANM-7]

Proposed Amendment of Class D and Class E Airspace; Klamath Falls, OR

AGENCY: Federal Aviation Administration (FAA), DOT.

ACTION: Notice of proposed rulemaking (NPRM).

SUMMARY: This action proposes to amend Class D and Class E airspace at Klamath Falls, OR. Decommissioning of the Merrill Non-Directional Radio Beacon (NDB) at Klamath Falls Airport has made this action necessary for the safety and management of Instrument Flight Rules (IFR) operations at the airport. This action also would adjust the geographic coordinates of the airport and a navigation aid, and would change the name of the airport.

DATES: Comments must be received on or before September 30, 2010.

ADDRESSES: Send comments on this proposal to the U.S. Department of Transportation, Docket Operations, M-30, West Building Ground Floor, Room W12-140, 1200 New Jersey Avenue, SE., Washington, DC 20590; telephone (202) 366-9826. You must identify FAA Docket No. FAA-2010-0651; Airspace Docket No. 10-ANM-7, at the beginning of your comments. You may also submit comments through the Internet at http://www.regulations.gov.

FOR FURTHER INFORMATION CONTACT: Eldon Taylor, Federal Aviation Administration, Operations Support Group, Western Service Center, 1601 Lind Avenue, SW., Renton, WA 98057; telephone (425) 203-4537.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2010-0651 and Airspace Docket No. 10-ANM-7) and be submitted in triplicate to the Docket Management System (see ADDRESSES section for address and phone number). You may also submit comments through the Internet at http://www.regulations.gov.

Commenters wishing the FAA to acknowledge receipt of their comments on this action must submit with those comments a self-addressed stamped postcard on which the following statement is made: “Comments to FAA Docket No. FAA-2010-0651 and Airspace Docket No. 10-ANM-7”. The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received, and any final disposition in person in the Dockets Office (see the ADDRESSES section for the address and phone number) between 9 a.m. and 5 p.m., Monday through Friday, except federal holidays. An informal docket may also be examined during normal business hours at the Northwest Mountain Regional Office of the Federal Aviation Administration, Air Traffic Organization, Western Service Center, Operations Support Group, 1601 Lind Avenue, SW., Renton, WA 98057.

Persons interested in being placed on a mailing list for future NPRMs should contact the FAA's Office of Rulemaking, (202) 267-9677, for a copy of Advisory Circular No. 11-2A, Notice of Proposed Rulemaking Distribution System, which describes the application procedure.

The Proposal

The FAA is proposing an amendment to Title 14 Code of Federal Regulations (14 CFR) Part 71 by amending the Class E airspace area extending upward from 700 feet above the surface at Klamath Falls Airport, Klamath Falls, OR. Decommissioning of the Merrill NDB and cancellation of the NDB approach has made this action necessary for the safety and management of IFR operations at the airport. The geographic coordinates of the Klamath Falls Airport, and the Klamath Falls VHF Omni-Directional Radio Range Tactical Air Navigation Aid (VORTAC) for Class E airspace designated as an extension to Class D airspace, and Class E airspace extending upward from 700 feet above the surface, also would be adjusted in accordance with the FAA's National Aeronautical Navigation Services (NANS). The airport name would be corrected from Klamath Falls International Airport to Klamath Falls Airport.

Class D and Class E airspace designations are published in paragraph 5000, 6002, 6004 and 6005, respectively, of FAA Order 7400.9T, signed August 27, 2009, and effective September 15, 2009, which is incorporated by reference in 14 CFR 71.1. The Class D and Class E airspace designation listed in this document will be published subsequently in this Order.

The FAA has determined this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this proposed rule, when promulgated, would not have a significant economic impact on a substantial number of small entities under the criteria of the Regulatory Flexibility Act.

The FAA's authority to issue rules regarding aviation safety is found in Title 49 of the U.S. Code. Subtitle 1, section 106, describes the authority for the FAA Administrator. Subtitle VII, Aviation Programs, describes in more detail the scope of the agency's authority. This rulemaking is promulgated under the authority described in subtitle VII, part A, subpart I, section 40103. Under that section, the FAA is charged with prescribing regulations to assign the use of the airspace necessary to ensure the safety of aircraft and the efficient use of airspace. This regulation is within the scope of that authority as it would amend controlled airspace at Klamath Falls Airport, Klamath Falls, OR.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9T, Airspace Designations and Reporting Points, signed August 27, 2009, and effective September 15, 2009 is amended as follows:

Paragraph 5000 Class D Airspace.

* * * * *

ANM OR D Klamath Falls, OR [Amended]

Klamath Falls Airport, OR

(Lat. 42°09′22″ N., long. 121°44′00″ W.)

That airspace extending upward from the surface to and including 6,600 feet MSL within a 5.4-mile radius of Klamath Falls Airport. This Class D airspace area is effective during the specific dates and times established in advance by a Notice to Airmen. The effective date and time will thereafter be continuously published in the Airport/Facility Directory.

Paragraph 6002 Class E Airspace Designated as Surface Areas.

* * * * *

ANM OR E2 Klamath Falls, OR [Amended]

Klamath Falls Airport, OR

(Lat. 42°09′22″ N., long. 121°44′00″ W.)

Within a 5.4-mile radius of Klamath Falls Airport. This Class E airspace area is effective during the specific dates and times established in advance by a Notice to Airmen. The effective date and time will thereafter be continuously published in the Airport/Facility Directory.

Paragraph 6004 Class E Airspace Designated as an Extension to a Class D Surface Area.

* * * * *

ANM OR E4 Klamath Falls, OR [Amended]

Klamath Falls Airport, OR

(Lat. 42°09′22″ N., long. 121°44′00″ W.)

Klamath Falls VORTAC

(Lat. 42°09′11″ N., long. 121°43′39″ W.)

That airspace extending upward from the surface within 3.5 miles east and 1.8 miles west of the Klamath Falls VORTAC 171° radial extending from the 5.4-mile radius of Klamath Falls Airport to 7.4 miles south of the VORTAC, and within 1.8 miles each side of the Klamath Falls VORTAC 332° radial extending from the 5.4-mile radius of the airport to 9.6 miles northwest of the VORTAC.

Paragraph 6005 Class E Airspace Areas Extending Upward From 700 Feet or More Above the Surface of the Earth.

* * * * *

ANM OR E5 Klamath Falls, OR [Modified]

Klamath Falls Airport, OR

(Lat. 42°09′22″ N., long. 121°44′00″ W.)

That airspace extending upward from 700 feet above the surface within a 13.1-mile radius of Klamath Falls Airport, and within 4.3 miles east and 8.3 miles west of the 158° bearing from the airport extending from the 13.1-mile radius to 27.2 miles south of the airport; that airspace extending upward from 1,200 feet above the surface between the 13.1-mile radius and the 21.8-mile radius of the Klamath Falls Airport; that airspace extending upward from 7,500 feet MSL within the area bounded by the 21.8-mile radius and the 34.8-mile radius of the Klamath Falls Airport extending clockwise from the airport 095° bearing to a line 4.3 miles east of and parallel to the airport 165° bearing and within the area bounded by the 21.8-mile radius and the 34.8-mile radius of the Klamath Falls Airport extending clockwise from the airport 245° bearing to the airport 295° bearing; that airspace extending upward from 7,700 feet MSL within the area bounded by the 21.8-mile radius and the 27.9-mile radius of the Klamath Falls Airport extending clockwise from the airport 332° bearing to a line 7.9 miles northeast of and parallel to the airport 332° bearing; that airspace extending upward from 8,600 feet MSL within the area bounded by the 21.8-mile radius and the 41.8-mile radius of the Klamath Falls Airport extending clockwise from a line 4.3 miles east of and parallel to the airport 165° bearing to a line 10.1 miles west of and parallel to the airport 181° bearing; that airspace extending upward from 9,000 feet MSL within the area bounded by the 21.8-mile radius and the 34.8-mile radius of the Klamath Falls Airport extending clockwise from the airport 320° bearing to the airport 095° bearing; that airspace extending upward from 9,500 feet MSL within the area bounded by the 21.8-mile radius and the 34.8-mile radius of the Klamath Falls Airport extending clockwise from a line 10.1 miles west of and parallel to the airport 181° bearing to the airport 245° bearing, and within the area bounded by the 21.8-mile radius and the 24.4-mile radius of the Klamath Falls Airport extending clockwise from the airport 295° bearing to the airport 320° bearing; and that airspace extending from 11,000 feet MSL within the area bounded by the 24.4-mile radius and the 34.8-mile radius of the Klamath Falls Airport extending clockwise from the airport 295° bearing to the airport 320° bearing.

Issued in Seattle, Washington, on August 10, 2010.
Lori Andriesen,
Acting Manager, Operations Support Group, Western Service Center.

[FR Doc. 2010-20214 Filed 8-13-10; 8:45 am]

BILLING CODE 4910-13-P